DEPARTMENT OF HOMELAND SECURITY

Coast Guard

33 CFR Part 165

[Docket Number USCG-2013-0040]

RIN 1625-AA87

Revision of Safety/Security Zone Regulations; 2014 Tampa Bay; Captain of the Port St. Petersburg Zone, FL

AGENCY: Coast Guard, DHS.

ACTION: Notice of proposed rulemaking.

SUMMARY: The Coast Guard is proposing to consolidate three security zone regulations into one regulation. In addition, the Coast Guard is proposing to disestablish two safety zone regulations, and convert those safety zones into security zones for all navigable waterways of Big Bend, Boca Grande, Crystal River, East Bay, Hillsborough Bay, MacDill Air Force Base, Manbirtee Key, Old Port Tampa, Port Manatee, Port Tampa, Port St. Petersburg, Port Sutton, Rattlesnake, and Weedon Island, FL. The purpose of these revisions is to ensure the security of vessels, facilities, and the surrounding areas within these zones. Entry into the area encompassed by these revised security zones is prohibited without permission of the Captain of the Port St. Petersburg or a designated representative.

DATES: Comments and related material must be received by the Coast Guard on or before October 15, 2014.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

See the “Public Participation and Request for Comments” portion of the SUPPLEMENTARY INFORMATION section below for further instructions on submitting comments. To avoid duplication, please use only one of these three methods.

FOR FURTHER INFORMATION CONTACT: If you have questions on this rule, call or email LTJG Brett Sillman, Sector St. Petersburg Waterways Management Division, U.S. Coast Guard; telephone (813) 228-2191, email brett.s.sillman@uscg.mil. If you have questions on viewing or submitting material to the docket, call Cheryl Collings, Program Manager, Docket Operations, telephone (202) 366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number USCG-2013-0040 in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the facility, please enclose a stamped, self-addressed postcard or envelope. We will consider all comments and material received during the comment period and may change the rule based on your comments.

2. Viewing Comments and Documents

To view comments, as well as documents mentioned in this preamble as being available in the docket, go to http://www.regulations.gov, type the docket number USCG-2013-0040 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not plan to hold a public meeting, but you may submit a request for one using one of the methods specified under ADDRESSES. Please explain why you believe a public meeting would be beneficial. If we determine that one would aid this rulemaking, we will hold one at a time and place announced by a later notice in the Federal Register.

B. Regulatory History and Information

Existing security zones were established in 2003 and codified in 33 CFR 165.760 and 165.764 by the Captain of the Port Tampa. The Coast Guard proposes to revise the following established safety and security zones for the purpose of enhancing port security for the region:

• § 165.703 Tampa Bay, Florida—Safety Zone;

• § 165.704 Tampa Bay, Florida—Safety Zone;

• § 165.760 Security Zones; Tampa Bay, Port of Tampa, Port of St. Petersburg, Port Manatee, Rattlesnake, Old Port Tampa, Big Bend, Weedon Island and Crystal River, Florida;

• § 165.767 Security Zone; Manbirtee Key, Port of Manatee, Florida;

• § 165.768 Security Zone; MacDill Air Force Base, Tampa, FL;

• § 165.760 Remove; (a)(6) Piers, seawalls, and facilities, Port of Tampa, East Bay and the eastern side of Hooker's Point;

• § 165.760 Remove; (a)(8) Piers, seawalls, and facilities, Port of Manatee.

C. Basis and Purpose

The legal basis for the rule is the Coast Guard's authority to establish limited access areas: 33 U.S.C. 1226; 1231; 46 U.S.C. Chapter 701, 3306, 3703; 50 U.S.C. 191, 195; 33 CFR 1.05-1, 6.04-1, 6.04-6, 160.5; Public Law 107-295, 116 Stat. 2064; Department of Homeland Security Delegation No. 0170.1.

The purpose of the regulation is to reorganize and consolidate three existing security zones in 33 CFR 165.760, 33 CFR 165.767 and 33 CFR 165.768 into a single regulation and to combine the safety zones in 33 CFR 165.703 and 33 CFR 165.704 into a single security zone regulation to ensure the security of vessels, facilities, and the surrounding areas and provide safety of life on the navigable waters in the Captain of the Port St. Petersburg Zone.

D. Discussion of Proposed Rule

The Coast Guard is proposing to consolidate security zones in 33 CFR 165.760, 33 CFR 165.767, and 33 CFR 165.768 into one section under 33 CFR 165.703. The Coast Guard is also proposing to disestablish all local safety zone regulations under 33 CFR 165.703 and 33 CFR 165.704 and convert those safety zones into new security zones under section 33 CFR 165.703 regulations for all navigable waterways of Big Bend, Boca Grande, Crystal River, East Bay, Hillsborough Bay, MacDill Air Force Base, Manbirtee Key, Old Port Tampa, Port Manatee, Port Tampa, Port St. Petersburg, Port Sutton, Rattlesnake, and Weedon Island, FL, within the Captain of the Port St. Petersburg Zone. The security zones created by this proposed rule will

The Coast Guard's ports, waterways and coastal security mission gives priority to ensuring the safe transit of vessels carrying especially hazardous cargos.

There are currently no security zones for vessels carrying especially hazardous cargos within Tampa Bay. In consideration of the potential risks to the aforementioned public and commercial interests from especially hazardous cargos such as an ammonium nitrate or liquefied petroleum gas explosion, toxic release of anhydrous ammonia, or disruption of any vessel's transit due to an attack, and using the Maritime Security Risk Analysis Tool, there is a compelling public safety interest to:

(1) Establish a 500-yard security zone around all vessels carrying especially hazardous cargos during transit through Tampa Bay and while moored with cargo onboard; and,

(2) Establish a 500-yard security zone around cruise ships, during transit through Tampa Bay and at all times while moored.

Establishing 500-yard security zones increases the area of federally enforceable jurisdiction around the protected vessel, thereby providing vital additional space for law enforcement vessels to react to potential surface threats. The current zone is insufficient to allow law enforcement vessels to effectively respond to such threats. These proposed regulations will impose operating, inspection, and reporting requirements for vessels and will create regulated areas surrounding vessels in commercial service, including ferries. Owners, agents, masters, operators, or persons in charge of vessels will be subject to the reporting requirements contained in 33 CFR part 160, subpart C, Notification of Arrival, Hazardous Conditions, and Certain Dangerous Cargos.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

This regulation is not a significant regulatory action because this change constitutes merely the merging of, and increased size of existing regulations. This proposed rule may have some impact on the public, but these potential impacts will be minimized for the following reasons: There is ample room for vessels to navigate around security zones, and there are several locations for recreational and commercial fishing vessels to fish throughout the Tampa Bay region.

Also, vessels wishing to enter, transit through, or anchor in the regulated areas may do so with the permission of the Captain of the Port.

2. Impact on Small Entities

Under the Regulatory Flexibility Act (5 U.S.C. 601-612), we have considered the impact of this proposed rule on small entities. The Coast Guard certifies under 5 U.S.C. 605(b) that this proposed rule will not have a significant economic impact on a substantial number of small entities.

If you think that your business, organization, or governmental jurisdiction qualifies as a small entity and that this proposed rule would have a significant economic impact on it, please submit a comment (see ADDRESSES) explaining why you think it qualifies and how and to what degree this proposed rule would economically affect it.

3. Assistance for Small Entities

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and determined that this proposed rule does not have implications for federalism.

6. Protest Activities

The Coast Guard respects the First Amendment rights of protesters. Protesters are asked to contact the person listed in the For Further Information Contact section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 (adjusted for inflation) or more in any one year. Though this proposed rule would not result in such expenditure, we do discuss the effects of this proposed rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This proposed rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the federal government and Indian tribes, or on the distribution of power and responsibilities between the federal government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule is categorically excluded from further review under paragraph 34(g) of Figure 2-1 of the commandant instruction. A preliminary environmental analysis checklist supporting this determination are not required because the project seeks to only merge and remove existing regulations. We seek any comments or information that may lead to the discovery of a significant environmental impact from this proposed rule.

List of Subjects in 33 CFR Part 165

Harbors, Marine safety, Navigation (water), Reporting and recordkeeping requirements, Security Measures, Waterways.

For the reasons discussed in the preamble, the Coast Guard proposes to amend 33 CFR Part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Revise § 165.703 to read as follows:

§ 165.703 Security Zones; Tampa Bay: Big Bend, Boca Grande, Crystal River, East Bay, Hillsborough Bay, MacDill Air Force Base, Manbirtee Key, Old Port Tampa, Port Manatee, Port Tampa, Port St. Petersburg, Port Sutton, Rattlesnake, and Weedon Island, FL.

(a) Regulated areas. The following areas, denoted by coordinates fixed using the North American Datum of 1983 (World Geodetic System 1984) are security zones:

(1) Security Zones for Facilities and Structures—(i) Rattlesnake, Tampa, FL. All water, from surface to bottom, in Old Tampa Bay east and south of the waters encompassed within position 27°53.32′ N, 082°32.05′ W; thence to; 27°53.38′ N, 082°32.05′ W, including on land portions of Chemical Formulators Chlorine Facility, where the fenced area is bounded by a line connecting the following points: 27°53.21′ N, 082°32.11′ W; thence to; 27°53.22′ N, 082°32.23′ W; thence to; 27°53.25′ N, 082°32.23′ W; thence to; 27°53.25′ N, 082°32.27′ W; thence to; 27°53.29′ N, 082°32.25′ W; thence to; 27°53.30′ N, 082°32.16′ W; thence to; 27°53.21′ N, 082°32.11′ W.

(ii) Old Port Tampa, Tampa, FL. All waters, from surface to bottom, in Old Tampa Bay encompassed within the following points: 27°51.62′ N, 082°33.14′ W; thence to; 27°51.71′ N, 082°32.5′ W; thence to; 27°51.76′ N, 082°32.5′ W; thence to 27°51.73′ N, 082°33.16′ W; thence to; 27°51.62′ N, 082°33.14′ W, closing off the Old Port Tampa channel.

(iii) Sunshine Skyway Bridge, FL. All waters in Tampa Bay, from surface to bottom, in Cut “A” channel beneath the bridge's main span encompassed within the following points: 27°37.30′ N, 082°39.38′ W; 27°37.13′ N, 082°39.26′ W; and the bridge structure columns, base and dolphins. This zone is specific to the bridge structure and dolphins and does not include waters adjacent to the bridge columns or dolphins outside of the bridge's main span. Any vessel may transit through this zone but, may not loiter, anchor, or conduct operations, including dredging, dive operation, surveying, or maintenance, unless otherwise directed by the Captain of the Port. Anyone wanting to conduct these operations must submit a request via email to WWMTampa@uscg.mil or contact the Sector Command Center after hours at 727.824.7506.

(iv) Manbirtee Key, Port of Manatee, FL. All waters, from surface to bottom, surrounding, surrounding Manbirtee Key, Tampa Bay, FL extending 500 yards from the island's shoreline, in all directions, not to include the Port Manatee Channel.

(v) MacDill Air Force Base, Tampa Bay, FL. All waters encompassed within the following coordinates: 27°51′52.901″ N, 082°29′18.329″ W; thence to 27°52′00.672″ N, 082°28′51.196″ W; thence to 27°51′28.859″ N, 082°28′10.412″ W; thence to 27°51′01.067″ N, 082°27′45.355″ W; thence to 27°50′43.248″ N, 082°27′36.491″ W; thence to 27°50′19.817″ N, 082°27′35.466″ W; thence to 27°49′38.865″ N, 082°27′43.642″ ; W; thence to 27°49′20.204″ N, 082°27′47.517″ W; thence to 27°49′06.112″ N, 082°27′52.750″ W; thence to 27°48′52.791″ N, 082°28′05.943″ W; thence to 27°48′45.406″ N, 082°28′32.309″ W; thence to 27°48′52.162″ N, 082°29′26.672″ W; thence to 27°49′03.600″ N, 082°30′23.629″ W; thence to 27°48′44.820″ N, 082°31′10.000″ W; thence to 27°49′09.350″ N, 082°32′24.556″ W; thence to 27°49′38.620″ N, 082°33′02.444″ W; thence to 27°49′56.963″ N, 082°32′45.023″ W; thence to 27°50′05.447″ N, 082°32′48.734″ W; thence to 27°50′33.715″ N, 082°32′45.220″ W; thence to 27°50′42.836″ N, 082°32′10.972″ W.

(vi) Piers, seawalls, and facilities, Port of Tampa and Port Sutton, Tampa, FL. All waters, from surface to bottom, extending 50 yards from the shore, seawall, and piers around facilities in Port Sutton within the Port of Tampa encompassed by a line connecting the following points: 27°54.15′ N, 082°26.06′ W; thence to; 27°54.46′ N, 082°25.71′ W; closing off all Port Sutton Channel.

(vii) Piers, seawalls, and facilities, Port of Tampa, on the western side of Hooker's Point, Tampa, FL. All waters, from surface to bottom, extending 50 yards from the shore, seawall, and piers around facilities on Hillsborough Bay northern portion of Cut “D” Channel, Sparkman Channel, Ybor Turning Basin, and Ybor Channel within the Port of Tampa encompassed by a line connecting the following points: 27°54.74′ N, 082°26.47′ W; thence to 27°55.25′ N, 082°26.73′ W; thence to 27°55.60′ N, 082°26.80′ W; thence to 27°56.00′ N, 082°26.75′ W; thence to 27°56.58′ N, 082°26.53′ W; thence to 27°57.29′ N, 082°26.51′ W; thence to 27°57.29′ N, 082°26.61′ W; thence to 27°56.65′ N, 082°26.63′ W; thence to 27°56.58′ N, 082°26.69′ W; thence to 27°56.53′ N, 082°26.90′ W.

(viii) St. Petersburg Harbor, FL. All waters, from surface to bottom, extending 50 yards from the seawall and around all moorings and vessels in St. Petersburg Harbor (Bayboro Harbor), commencing on the north side of the channel at day beacon “10” (LLNR 24995) in approximate position 27°45.56′ N, 082°37.55′ W, and westward along the seawall to the end of the cruise terminal in approximate position 27°45.72′ N, 082°37.97′ W. The zone will also include the Coast Guard south moorings in St. Petersburg Harbor. The zone will extend 50 yards around the piers commencing from approximate position 27°45.51′ N, 082°37.99′ W; to 27°45.52′ N, 082°37.57′ W. The southern boundary of the zone is shoreward of a line between the entrance to Salt Creek easterly towards day beacon “11” (LLNR 24990).

(ix) Crystal River Nuclear Power Plant. All waters, from surface to bottom, around the FL, Power Crystal River Nuclear Power Plant located at the end of the Florida Power Corporation Channel, Crystal River, Florida, encompassed by a line connecting the following points: 28°56.87′ N, 082°45.17′ W; thence to 28°57.37′ N, 082°41.92′ W; thence to 28°56.79′ N, 082°45.13′ W; thence to 28°57.32′ N, 082°41.92′ W.

(x) Crystal River Demory Gap Channel. All waters, from surface to bottom, in the Demory Gap Channel in Crystal River, Florida, encompassed by the following points: 28°57.61′ N, 082°43.42′ W thence to; 28°57.55′ N, 082°41.88′ W thence to; 28°57.58′ N, 082°43.42′ W thence to; 28°57.51′ N, 082°41.88′ W.

(xi) Big Bend Power Plant, FL. All waters of Tampa Bay, from surface to bottom, adjacent to the Big Bend Power Facility, and within an area bounded by the following points: 27°48.08′ N, 082°24.88′ W; thence to; 27°48.15′ N, 082°24.96′ W; thence to; 27°48.10′ N, 082°25.00′ W; thence to; 27°47.85′ N, 082°25.03′ W; thence to; 27°47.58′ N, 082°24.89′ W; thence to; 27°47.58′ N, 082°24.06′ W; thence to; 27°47.62′ N, 082°24.04′ W; thence to; 27°47.63′ N, 082°24.71′ W; thence to; 27°48.03′ N, 082°24.70′ W; thence to; 27°48.08′ N, 082°24.88′ W, closing off entrance to Big Bend Power Facility and the attached cooling canal.

(xii) Weedon Island Power Plant, FL. All waters of Tampa Bay, from surface to bottom, extending 50 yards from the shore, seawall and piers around the Power Facility at Weedon Island encompassed by the following points: 27°51.52′ N, 082°35.82′ W; thence along the shore to; 27°51.54′ N, 082°35.78′ W; thence to; 27°51.89′ N, 082°35.82′ W; thence to; 27°51.89′ N, 082°36.14′ W, closing off the entrance to both canals.

(2) Vessel Specific Security Zones—(i) Moving security zones for Cruise Ships and vessels carrying Especially Hazardous Cargos. The following security zones and procedures are established for all waters, from surface to bottom, within a 500-yard radius, as outlined below:

(A) For inbound vessels commencing at Egmont Channel Lighted Buoys “9” (LLNR 22270) and “10” (LLNR 22275) through to berth.

(B) For shifting vessels from their departure berth to destination berth.

(C) For outbound vessels commencing at berth through to Egmont Channel Lighted Buoys “9” (LLNR 22270) and “10” (LLNR 22275).

(D) All subject vessels operating in the Captain of the Port St. Petersburg Zone shall follow the reporting requirements in 33 CFR part 160, subpart C.

(E) Any vessel desiring to enter or transit the security zone shall obtain permission from the Captain of the Port St. Petersburg or a designated representative. If permission is granted, all persons and vessels must comply with any given instructions.

(3) Fixed Security Zones for moored Cruise Ships and moored vessels carrying Especially Hazardous Cargos. A security zone is established for all waters, from surface to bottom, within a 200-yard radius around moored cruise ships and moored vessels carrying especially hazardous cargos, as outlined below:

(i) All subject vessels operating in the Captain of the Port St. Petersburg Zone shall follow reporting requirements in 33 CFR part 160, subpart C.

(ii) Any vessel desiring to enter or transit the security zone shall obtain permission from the Captain of the Port St. Petersburg or a designated representative. If permission is granted, all persons and vessels must comply with any given instructions.

(iii) No vessel may loiter, anchor, or conduct maintenance operations within the security zone, unless otherwise directed by the Captain of the Port St. Petersburg or a designated representative. This includes, but is not limited to dredging operations, dive operations, and surveying. Anyone wanting to conduct these operations must submit a request via email to WWMTampa@uscg.mil or contact the Sector Command Center after hours at 727.824.7506.

(b) Definitions. As used in this section:

Ammonium Nitrate means ammonium nitrate and ammonium nitrate based fertilizers listed as Division 5.1 (oxidizing) materials as defined in 33 CFR 172.101 except when carried as CDC residue.

Captain of the Port (COTP) for the purpose of this section means the Commanding Officer of Coast Guard Sector St. Petersburg.

Captain of the Port St. Petersburg Zone means any navigable waters or tributaries between or within Fenholloway River through Chokoloskee Pass, Florida, including Big Bend, Boca Grande, Crystal River, East Bay, Hillsborough Bay, MacDill Air Force Base, Manbirtee Key, Old Port Tampa, Port Manatee, Port Tampa, Port St. Petersburg, Port Sutton, Rattlesnake, Tampa Bay, and Weedon Island, FL.

Certain Dangerous Cargo includes Division 1.5D blasting agents for which a permit is required under 49 CFR 176.415 or, for which a permit is required as a condition of Research and Special Programs Administration exemption. This includes ammonium nitrate fuel oil mixture.

Commercial Vessels means any tank, bulk, container, cargo, cruise ships, pilot vessels, or tugs. This definition excludes fishing vessels, salvage vessels, dead ship tow operations.

Cruise Ship means the same as defined 33 CFR Part 101.105.

Designated representative means Coast Guard Patrol Commanders including Coast Guard coxswains, petty officers and other officers operating Coast Guard vessels, and federal, state, and local officers designated by or assisting the COTP, in the enforcement of regulated navigation areas, safety zones, and security zones.

Especially Hazardous Cargo means anhydrous ammonia, ammonium nitrate, chlorine, liquefied natural gas, liquefied petroleum gas, and any other substance, material, or group or class in a particular amount and form that the Secretary determines by regulation poses a significant risk of creating a transportation security incident while being transported in maritime commerce.

(c) Regulations. (1) Entry into or remaining on or within the zones described in paragraph (a) of this section is prohibited unless authorized by the Captain of the Port St. Petersburg or a designated representative.

(2) Any changes to the requirements for these regulated areas will be given by Broadcast Notice to Mariners on VHF-FM Channel 22A.

Note to paragraph (c)(2): A graphical representation of all fixed security zones will be made available through nautical charts via the Coast Pilot.

(3) The Captain of Port St. Petersburg has provisions for escorting especially hazardous cargos as described in the above sections of this subchapter, but reserves the right to establish additional provisions for any potentially hazardous cargos.

(4) Enforcement. Under general the general provisions in 33 CFR 165.33, no person may authorize the operation of a vessel in the security zones contrary to the provisions of this section.

(5) Authority. In addition to 33 U.S.C. 1231 and 50 U.S.C. 191, the authority for this section includes 33 U.S.C. 1226.

(d) The Captain of the Port St. Petersburg may waive any of the requirements of this subpart for any vessel, facility, or structure upon finding that the vessel or class of vessel, operational conditions, or other circumstances are such that application of this subpart is unnecessary or impractical for purposes of port safety and security or environmental safety.

3. Remove and reserve §§ 165.704, 165.760, 165.767, and 165.768.

Dated: June 4, 2014.
G.D. Case,
Captain, U.S. Coast Guard, Captain of the Port St. Petersburg.

[FR Doc. 2014-21999 Filed 9-12-14; 8:45 am]

BILLING CODE 9110-04-P